COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List a commodity and a service to be furnished by nonprofit agencies employing persons who are blind or have other severe disabilities.

DATES: Comments must be received on or before October 1, 2001.

ADDRESS: Committee for Purchase From People Who Are Blind or Severely Disabled, Jefferson Plaza 2, 1421 Jefferson Davis Highway, Suite 10800, Arlington, VA 22202-3259.

FOR FURTHER INFORMATION CONTACT: Louis R. Bartalot (703) 603-7740

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in this notice for each commodity or service will be required to procure the commodity or service listed below from nonprofit agencies employing persons who are blind or have other severe disabilities.

I certify that the following action will not have a significant impact on a substantial number of small entities. The major factors considered for this certification were:

1. The action will not result in any additional reporting, recordkeeping or other compliance requirements for small entities other than the small organizations that will furnish the commodity and service to the Government.

2. The action will result in authorizing small entities to furnish the commodity and service to the Government.

3. There are no known regulatory alternatives which would accomplish the objectives of the Javits-Wagner-O'Day Act (41 U.S.C. 46-48c) in connection with the commodity and service proposed for addition to the Procurement List. Comments on this certification are invited. Commenters should identify the statement(s) underlying the certification on which they are providing additional information.

The following commodity and service are proposed for addition to Procurement List for production by the nonprofit agencies listed:

Commodity

Milk, Non-Fat Dry, Instantized

8910-00-NSH-0002

NPA: CW Resources, Inc., New Britain, Connecticut

Knox County Association for Retarded Citizens, Inc., Vincennes, Indiana

Advocacy and Resources Corp. (ARC), Cookeville, Tennessee

Transylvania Vocational Services, Inc., Brevard, North Carolina

Government Agency: Department of Agriculture

Services

Facilities Management

Television Audio Support Activity (TASA), McClellan AFB, CA

NPA: PRIDE Industries, Roseville, California

Government Agency: Department of the Air Force

Sheryl D. Kennerly,
Director, Information Management.

[FR Doc. 01-22037 Filed 8-30-01; 8:45 am]

BILLING CODE 6353-01-P